SOCIAL SECURITY ADMINISTRATION

[Docket No. SSA-2014-0028]

Supplementary Agreement on Social Security Between the United States and the Swiss Confederation; Entry Into Force

AGENCY: Social Security Administration (SSA).

ACTION: Notice.

SUMMARY: We are giving notice that on August 1, 2014, a new agreement will enter into force that replaces the original U.S.-Swiss Social Security agreement that has been in effect since November 1, 1980. The new agreement, which was signed on December 3, 2012, was concluded pursuant to section 233 of the Social Security Act.

The new agreement updates and clarifies several provisions in the original U.S.-Swiss Social Security agreement. The primary purpose, however, is to correct an anomalous situation, caused by a change in Swiss law, in which the original agreement allowed U.S. nationals to receive certain disability benefits from Switzerland on more favorable terms than Swiss nationals. Additionally, the new agreement provides that under certain conditions less restrictive than those of the original agreement. U.S. nationals may qualify for Swiss flat-rate, needs-based benefits. The new agreement also introduces new and enhanced provisions for the protection and integrity of personal data transmitted under the agreement.

Individuals who wish to obtain copies of the new agreement or want general information about its provisions may write to the Social Security Administration, Office of International Programs, Post Office Box 17741, Baltimore, Maryland 21235-7741. The Social Security Web site at http://www.socialsecurity.gov/international also includes the text of the new agreement. Anyone who wants information about the Swiss Social Security programs may write to the Swiss Compensation Office, 18 Avenue Ed. Vaucher, CH-1211 Geneva 28, Switzerland.

Dated: August 1, 2014.
Carolyn W. Colvin,
Acting Commissioner of Social Security.

[FR Doc. 2014-18826 Filed 8-7-14; 8:45 am]

BILLING CODE 4191-02-P